OVERSEAS PRIVATE INVESTMENT CORPORATION

Sunshine Act Meeting; Public Hearing

July 5, 2007

OPIC's Sunshine Act notice of its Public Hearing in Conjunction with each Board meeting was published in the Federal Register (Volume 72, Number 118, Page 34051) on June 20, 2007. No requests were received to provide testimony or submit written statements for the record; therefore, OPIC's public hearing scheduled for 2 p.m., June 5 2007 in conjunction with OPIC's July 12, 2007 Board of Directors meeting has been cancelled.

CONTACT PERSON FOR INFORMATION: Information on the hearing cancellation may be obtained from Connie M. Downs at (202) 336-8438, via facsimile at (202) 218-0136, or via e-mail at cdown@opic.gov.

Dated: July 2, 2007.
Connie M. Downs,
OPIC Corporate Secretary.

[FR Doc. 07-3290 Filed 7-2-07; 12:59 pm]

BILLING CODE 3210-01-M